DEPARTMENT OF TRANSPORTATION

Federal Aviation Administration

14 CFR Part 71

[Docket No. FAA-2012-1004; Airspace Docket No. 12-ANM-21]

RIN 2120-AA66

Modification of VOR Federal Airway V-595, Oregon

AGENCY: Federal Aviation Administration (FAA), DOT.

ACTION: Final rule.

SUMMARY: This action modifies VHF omnidirectional range (VOR) Federal airway V-595 in Oregon due to the scheduled decommissioning of the Portland, OR, VOR/DME navigation aid, which currently serves as an end point for the route.

DATES: Effective date 0901 UTC, June 27, 2013. The Director of the Federal Register approves this incorporation by reference action under 1 CFR part 51, subject to the annual revision of FAA Order 7400.9 and publication of conforming amendments.

FOR FURTHER INFORMATION CONTACT: Paul Gallant, Airspace Policy and ATC Procedures Group, Office of Airspace Services, Federal Aviation Administration, 800 Independence Avenue SW., Washington, DC 20591; telephone: (202) 267-8783.

SUPPLEMENTARY INFORMATION:

History

On October 22, 2012, the FAA published in the Federal Register a notice of proposed rulemaking (NPRM) to modify V-595 in Oregon (77 FR 64444). Interested parties were invited to participate in this rulemaking effort by submitting written comments on this proposal to the FAA. No comments were received.

The original proposal would have terminated V-595 at the HARZL navigation fix which is approximately 29 NM southeast of the Portland VOR/DME. Subsequent to publication of the NPRM, it was determined that mountainous terrain in the area would limit the service volume of the Deschutes, OR, VORTAC to a degree that the Deschutes VORTAC could not be used to identify the entire length of the proposed segment between Deschutes and the HARZL fix.

Consequently, the FAA issued a supplemental NPRM (SNPRM) (78 FR 9009, February 7, 2013) to solicit comments on a proposed further modification of V-595 to delete the entire segment between Deschutes VORTAC and the Portland VOR/DME. No comments were received in response the SNPRM.

The Rule

The FAA is amending Title 14, Code of Federal Regulations (14 CFR) part 71 by modifying VOR Federal airway V-595 due to the scheduled decommissioning of the Portland, OR, VOR/DME. This action removes that segment of V-595 between the Portland, OR, VOR/DME and the Deschutes, OR, VORTAC. By separate rulemaking action, the FAA has proposed to establish new area navigation routes (T-routes) to provide additional navigation options in the affected area (78 FR 4354, January 22, 2013.

VOR Federal airways are published in paragraph 6010(a) of FAA Order 7400.9W signed August 8, 2012 and effective September 15, 2012, which is incorporated by reference in 14 CFR 71.1. The VOR Federal airway listed in this document will be published subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it modifies a VOR Federal airway due to navigation aid infrastructure changes.

Environmental Review

The FAA has determined that this action qualifies for categorical exclusion under the National Environmental Policy Act in accordance with FAA Order 1050.1E, Environmental Impacts: Policies and Procedures, paragraph 311a. This airspace action consists of a modification of an existing airway and is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the FAA Order 7400.9W, Airspace Designations and Reporting Points, signed August 8, 2012, and effective September 15, 2012, is amended as follows:

Paragraph 6010(a)—Domestic VOR Federal Airways

V-595 [Amended]

From Rogue Valley, OR, to Deschutes, OR.

Issued in Washington, DC, on April 10, 2013.
Gary A. Norek,
Manager, Airspace Policy and ATC Procedures Group.

[FR Doc. 2013-09566 Filed 4-24-13; 8:45 am]

BILLING CODE 4910-13-P